DEPARTMENT OF LABOR

Occupational Safety and Health Administration

[Docket No OSHA-2011-0007]

Maritime Advisory Committee for Occupational Safety and Health (MACOSH)

AGENCY: Occupational Safety and Health Administration (OSHA), Labor.

ACTION: Notice of MACOSH Membership and Meeting Announcement

SUMMARY: In accordance with the provisions of the Federal Advisory Committee Act (FACA), as amended (5 U.S.C., App. 2), and after consultation with the General Services Administration, the Secretary of Labor announced on January 10, 2011, her intention to reestablish the Maritime Advisory Committee for Occupational Safety and Health (MACOSH) as being in the public interest (76 FR 1460). She signed the MACOSH charter on January 25, 2011, which, pursuant to FACA, will expire after two years on January 25, 2013. On March 29, 2011, the Secretary of Labor selected and approved 15 members to serve on the Committee. MACOSH will contribute to OSHA's performance of the duties imposed by the Occupational Safety and Health Act of 1970 (29 U.S.C. 651 et seq.).

The first meeting of the reestablished MACOSH Committee will be held on April 19 and 20, 2011, in Washington, DC.

DATES: MACOSH meeting: MACOSH will meet from 8:30 a.m. to 5 p.m. on April 19 and 20, 2011.

Submission of written statements, requests to speak, and requests for special accommodation: Written statements, requests to speak at the MACOSH meeting, and requests for special accommodations for the MACOSH meeting must be submitted (postmarked, sent, transmitted) by April 11, 2011.

ADDRESSES: MACOSH meeting: MACOSH will meet in room N-3437 A/B/C, U.S. Department of Labor, 200 Constitution Avenue, NW., Washington, DC 20210.

Submission of written statements and requests to speak: You may submit written statements and requests to speak at the MACOSH meeting, identified by docket number for this Federal Register notice (Docket No. OSHA-2011-0007), by one of the following methods:

• Electronically: You may submit materials, including attachments, electronically at http://www.regulations.gov, the Federal eRulemaking Portal. Follow the online instructions for entering submissions.

• Facsimile: If your submission, including attachments, does not exceed 10 pages, you may fax it to the OSHA Docket Office at (202) 693-1648.

• Mail, express delivery, messenger, or courier service: Submit three copies of your submissions to the OSHA Docket Office, Room N-2625, U.S. Department of Labor, 200 Constitution Avenue, NW., Washington, DC 20210; telephone: (202) 693-2350 (TTY (877) 899-5627). Deliveries (hand, express mail, messenger, or courier service) are accepted during the Department of Labor's and the OSHA Docket Office's normal business hours, 8:15 a.m. to 4:45 p.m. E.T.

Requests for special accommodation: Submit requests for special accommodations for the MACOSH meeting by hard copy, telephone, or e-mail to Ms. Veneta Chatmon, OSHA, Office of Communications, Room N-3647, U.S. Department of Labor, 200 Constitution Avenue, NW., Washington, DC 20110; telephone: (202) 693-1999; e-mail chatmon.veneta@dol.gov.

Instructions: All submissions must include the Agency name and docket number for this Federal Register notice (Docket No. OSHA-2011-0007). Because of security-related procedures, submissions by regular mail may result in a significant delay in receipt. Please contact the OSHA Docket Office for information about security procedures for making submissions by hand delivery, express delivery, messenger, or courier service.

Written statements and requests to speak, including personal information provided, will be placed in the public docket and may be available online. Therefore, OSHA cautions interested parties about submitting personal information such as social security numbers and birthdates.

Docket: To read or download documents in the public docket for this MACOSH meeting, go to http://www.regulations.gov. All documents in the public docket are listed in the index; however, some documents (e.g., copyrighted material) are not publicly available to read or download through http://www.regulations.gov. All submissions are available for inspection and, where permitted, copying at the OSHA Docket Office at the address above. For information on using http://www.regulations.gov to make submissions or to access the docket, click on the “Help” tab at the top of the Home page. Contact the OSHA Docket Office for information about materials not available through that Web site and for assistance in using the Internet to locate submissions and other documents in the docket. Electronic copies of this Federal Register notice are available at http://www.regulations.gov. This notice, as well as news releases and other relevant information, is also available on the OSHA webpage at http://www.osha.gov.

FOR FURTHER INFORMATION CONTACT: For press inquiries: Camilla F. McArthur, OSHA's Office of Communications, U.S. Department of Labor, Room N-3647, 200 Constitution Avenue, NW., Washington, DC 20210; telephone: (202) 693-1999.

For general information about MACOSH and this meeting: Mr. Joseph V. Daddura, Directorate of Standards and Guidance, OSHA, U.S. Department of Labor, Room N-3609, 200 Constitution Avenue, NW., Washington, DC 20210; telephone: (202) 693-2080; e-mail Daddura.Joseph@dol.gov.

SUPPLEMENTARY INFORMATION:

I. Background

The maritime industry has historically experienced a high incidence of work-related fatalities, injuries, and illnesses. OSHA has targeted this industry for special attention due to that experience. This targeting has included development of guidance or outreach materials specific to the industry, rulemakings to update requirements, and other activities. MACOSH will advise the Secretary through the Assistant Secretary of Labor for Occupational Safety and Health on matters relevant to the safety and health of employees in the maritime industry. The Committee's advice will result in more effective enforcement, training and outreach programs, and streamlined regulatory efforts. The Committee will function solely as an advisory body, in compliance with the provisions of FACA and OSHA's regulations covering advisory committees (29 CFR Part 1912).

II. Appointment of Committee Members

OSHA received nominations of highly qualified individuals in response to the Agency's request for nominations (75 FR 13785, March 23, 2010). The Secretary has selected to serve on the Committee the following individuals who have broad experience relevant to the issues to be examined by the Committee. The MACOSH members are:

Karen Conrad, North Pacific Fishing Vessel Owners' Association

Phillip Dovinh, Sound Testing, Inc.

Captain Cheryl Fairfield Estill, P.E., National Institute for Occupational Safety and Health (NIOSH)

Michael J. Flynn, International Association of Machinists and Aerospace Workers

Kelly Garber, APL Limited

Robert Godinez, International Brotherhood of Boilermakers—Iron Ship Builders

Lesley E. Johnson, International Brotherhood of Electrical Workers

Charles R. Lemon, Washington State Department of Labor and Industries

George S. Lynch, Jr., International Longshoremen's Association

Christopher John McMahon, United States Maritime Administration (DOT)

Tim Podue, International Longshore and Warehouse Union

Donald Raffo, General Dynamics

Arthur T. Ross, Texas Terminals L.P.

Kenneth A. Smith, United States Coast Guard

James R. Thornton, American Industrial Hygiene Association

III. Meeting

All MACOSH meetings and workgroup meetings are open to the public. All interested persons are invited to attend the MACOSH full-committee and workgroup meetings at the times and places listed above. The tentative agenda of the April 19, 2011 MACOSH meeting will include: OSHA activities updates from the Directorate of Standards and Guidance, the Directorate of Enforcement Programs, the Directorate of Technical Support and Emergency Management, and the Directorate of Cooperative and State Programs; and presentations on ethics; the Federal Advisory Committee Act; and administrative functions. The workgroups will meet from 8:30 a.m. until 12:30 p.m. on April 20, 2011 in Room N-3437 A/B/C, and report back to the full committee at 1:30 p.m. The workgroups will discuss topics on which they may focus for the duration of this charter of the Committee.

Public Participation: Interested parties may submit a request to make an oral presentation to MACOSH by any one of the methods listed in the ADDRESSES section above. The request must state the amount of time requested to speak, the interest represented (e.g., organization name), if any, and a brief outline of the presentation. Requests to address MACOSH may be granted as time permits and at the discretion of the MACOSH chair.

Interested parties may also submit written statements, including data and other information, using any one of the methods listed in the ADDRESSES section above. OSHA will provide all submissions to MACOSH members prior to the meeting. Individuals who need special accommodations to attend the MACOSH meeting should contact Ms. Chatmon by one of the methods listed in the ADDRESSES section.

Authority: David Michaels, PhD, MPH, Assistant Secretary of Labor for Occupational Safety and Health, directed the preparation of this notice under the authority granted by Sections 6(b)(1) and 7(b) of the Occupational Safety and Health Act of 1970 (29 U.S.C. 655, 656), the Federal Advisory Committee Act (5 U.S.C. App. 2), Secretary of Labor's Order 4-2010 (75 FR 55355), and 29 CFR part 1912.

Signed at Washington, DC, on March 30, 2011.
David Michaels,
Assistant Secretary of Labor for Occupational Safety and Health.

[FR Doc. 2011-7920 Filed 4-4-11; 8:45 am]

BILLING CODE 4510-26-P